FEDERAL RESERVE SYSTEM

Formations of, Acquisitions by, and Mergers of Bank Holding Companies; Correction

This notice corrects a notice (FR Doc. 2014-25756) published on page 64595 of the issue for Thursday, October 30, 2014.

Under the Federal Reserve Bank of New York heading, the entry for People's United Financial, Inc., Bridgeport, Connecticut, is revised to read as follows:

A. Federal Reserve Bank of New York (Ivan Hurwitz, Vice President) 33 Liberty Street, New York, New York 10045-0001:

1. People's United Financial, Inc., Bridgeport, Connecticut; to become a bank holding company upon the conversion of People's United Bank, Bridgeport, Connecticut, to a national bank.

In connection with this application, Applicant also has applied to engage through Shem Creek Capital Fund I, LLC, Boston, Massachusetts, and Northeast Retirement Services, Inc., Woburn, Massachusetts, in employee benefit administrative services, trust company functions, investment advisory activities and extending credit and servicing loans, pursuant to sections 225.28(b)(1), 225.28(b)(5), 225.28(b)(6)(i), 225.28(b)(7)(i), and 225.28(b)(9)(ii).

Comments on this application must be received by November 24, 2014.

In addition, this notice also corrects a notice (FR Doc. 2014-25840) published on pages 64595 and 64596 of the issue for Thursday, October 30, 2014.

Under the Federal Reserve Bank of Atlanta heading, the entry for IBERIABANK Corporation, Lafayette, Louisiana, is revised to read as follows:

A. Federal Reserve Bank of Atlanta (Chapelle Davis, Assistant Vice President) 1000 Peachtree Street NE., Atlanta, Georgia 30309:

1. IBERIABANK Corporation, Lafayette, Louisiana; to merge with Florida Bank Group, Inc., and thereby indirectly acquire Florida Bank, both in Tampa, Florida.

Comments on this application must be received by November 24, 2014.

Board of Governors of the Federal Reserve System, October 30, 2014.
Michael J. Lewandowski,
Associate Secretary of the Board.

[FR Doc. 2014-26216 Filed 11-4-14; 8:45 am]

BILLING CODE 6210-01-P